DEPARTMENT OF ENERGY

Federal Energy Regulatory Commission

[Docket No. ES04-36-000, et al.]

Midwest Independent Transmission System Operator, Inc., et al.; Electric Rate and Corporate Filings

May 28, 2004.

The following filings have been made with the Commission. The filings are listed in ascending order within each docket classification.

1. Midwest Independent Transmission System Operator, Inc.

[Docket No. ES04-36-000]

Take notice that on May 24, 2004, Midwest Independent Transmission System Operator, Inc. (Midwest ISO) submitted an application pursuant to section 204 of the Federal Power Act requesting that the Commission authorize borrowings in an amount not to exceed $2 million under a loan agreement with the Indiana Development Finance Authority.

Midwest ISO also requests a waiver from the Commission's competitive bidding and negotiated placement requirements at 18 CFR 34.2.

Comment Date: June 17, 2004.

2. Pedro J. Pizarro

[Docket No. ID-4033-000]

Take notice that on April 30, 2004, Pedro J. Pizarro tendered for filing an application for authorization to hold interlocking positions between Southern California Edison Company and the California Power Exchange Corporation pursuant to section 305(b) of the Federal Power Act and part 45 of the Commission's regulations, 18 CFR 45 (2003).

Comment Date: June 9, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1259 Filed 6-7-04; 8:45 am]

BILLING CODE 6717-01-P